DEPARTMENT OF HOMELAND SECURITY

Coast Guard

33 CFR Part 110

[Docket No. USCG-2008-0006]

RIN 1625-AA01

Seventh Coast Guard District, Captain of the Port Zone Jacksonville, Temporary Restricted Anchorage

AGENCY: Coast Guard, DHS.

ACTION: Notice of proposed rulemaking.

SUMMARY: The Coast Guard proposes establishment of three, multi-purpose, temporary restricted anchorages with associated safety/security zones to service vessels intending to call on the ports of Jacksonville or Fernandina within the Captain of the Port Zone Jacksonville as defined by 33 CFR 3.35-20. The temporary restricted anchorages and safety/security zones identify clearly to all mariners the pre-established area of the Captain of the Port Zone for geographic separation and/or restriction of certain vessels that may pose a safety, public health, environmental, or security threat to the port. The proposed temporary restricted anchorages are necessary to protect the public, port infrastructure, maritime environment, and viability of the Marine Transportation System from hazards associated with safety, public health, environmental, and security threats.

DATES: Comments and related material must reach the Coast Guard on or before April 10, 2008.

ADDRESSES: You may submit comments identified by Coast Guard docket number USCG-2008-0006 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand deliver: Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: If you have questions on this proposed rule, call Lieutenant Commander Austin Ives at Coast Guard Sector Jacksonville Prevention Department, Florida. Contact telephone is (904) 564-7563. If you have questions on viewing or submitting material to the docket, call Renee V. Wright, Program Manager, Docket Operations, telephone 202-366-9826.

SUPPLEMENTARY INFORMATION:

Public Participation and Request for Comments

We encourage you to participate in this rulemaking by submitting comments and related material. All comments received will be posted, without change, to http://www.regulations.gov and will include any personal information you have provided. We have an agreement with the Department of Transportation (DOT) to use the Docket Management Facility. Please see DOT's “Privacy Act” paragraph below.

Submitting Comments

If you submit a comment, please include the docket number for this rulemaking (USCG-2008-0006), indicate the specific section of this document to which each comment applies, and give the reason for each comment. We recommend that you include your name and mailing address, an e-mail address, or a phone number in the body of your document so that we can contact you if we have questions regarding your submission. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing Comments and Documents

To view comments, as well as documents mentioned in this preamble as being available in the docket, go to http://www.regulations.gov at any time, click on “Search for Dockets,” and enter the docket number for this rulemaking (USCG-2008-0006) in the Docket ID box, and click enter. You may also visit either the Docket Management Facility in Room W12-140 on the ground floor of the DOT West Building, 1200 New Jersey Avenue, SE., Washington, DC 20590, between 9 a.m. and 5 p.m., Monday through Friday, except Federal holidays; or the Coast Guard Sector Jacksonville Department, 4200 Ocean St., Atlantic Beach, FL 32233-2416, between 7:30 a.m. and 4 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://www.DocketsInfo.dot.gov.

Public Meeting

We do not plan to hold a public meeting. You may submit a request for a meeting by writing to Coast Guard Sector Jacksonville at the address under ADDRESSES explaining why one would be beneficial. If we determine that one would aid this rulemaking, we will hold one at a time and place announced by a later notice in the Federal Register.

Background and Purpose

In 2003-2004, the Northeast and Eastern Central Florida, Area Maritime Security Committee initiated a project to identify potential temporary restricted anchorage areas to which the COTP could direct vessels that presented safety, public health, environmental, or security threats. The project aligned and broadened the on-going efforts of the Consolidated City of Jacksonville/Duval County Security and Emergency Preparedness Planning Council to develop contingency plans for public health threats. The site selection process for designating temporary restricted anchorages was delegated to the Jacksonville Maritime Transportation Exchange, regional Harbor Safety Committee (HSC). In determining the most efficient and effective anchorage area(s), the HSC considered impacts to the public, the environment, and maritime mobility. After detailed evaluation (site selection criteria is explained under the “Discussion of Proposed Rule” section), the committee proposed a set of temporary restricted anchorages to serve the ports of Jacksonville and Fernandina. The concept advocated three such areas (1) very near-shore, approximately four nautical miles, to facilitate quick response by medical personnel where disease and hazardous substance exposure is not a threat to the shoreline, (2) a second area further off-shore, approximately seven nautical miles, for disease and/or threats that could pose hazardous to the general population, and (3) a final third anchorage just inside territorial seas, approximately twelve nautical miles, for grave threats that require substantial interagency planning and response.

It is anticipated that the need to use these temporary restricted anchorages will be rare. However, with clear pre-designation of the anchorages and associated safety/security zones, mariners are both informed of contingency plans and knowledgeable of requirements prior to activation. In addition, Federal, State, and Local plans will be able to clearly reference the establishment process and position of the anchorages for better contingency strategy development.

The COTP will determine on a case by case basis, depending on the nature of the threat, whether a safety or security zone is necessary for the activation of a temporary restricted anchorage.

These temporary restricted anchorages and associated safety/security zones are designed for the geographic separation and/or restriction of vessels or persons on such vessels when such vessels or persons pose or are suspected of posing a safety, public health, environmental, or security threat. Threats may include, but are not limited to, the spread of infectious disease or unauthorized transportation of hazardous or illegal substances.

The HSC recommended single-ship anchorages with an accompanying limited access area. The target ship type for said anchorages is deep draft ocean-going, ranging from large tug/barge combinations to larger cargo carriers and cruise ships.

Discussion of Proposed Rule

This proposed rule creates a set of three temporary restricted anchorages off Amelia Island, FL within the COTP Zone Jacksonville, as defined by 33 CFR 3.35-20. The proposed temporary restricted anchorages will be activated on a case by case basis by the Captain of the Port (COTP) and/or Federal Maritime Security Coordinator (FMSC) and will be disestablished when the COTP and/or FMSC releases the vessel or person on such vessel from temporary restriction.

(1) Anchorage Locations: General location for the set of three temporary restricted anchorage areas is four, seven, and twelve nautical miles from the shoreline, due east off Amelia Island, Florida.

(a) Anchorage A: When activated by the COTP/FMSC, Anchorage A will have a 500 yard safety zone or security zone, as applicable, around the point originating from approximate position 30-36N 81-21.8W.

(b) Anchorage B: When activated by the COTP/FMSC, Anchorage B will have a 500 yard safety or security zone, as applicable, around the point originating from approximate position 30-36N 81-18.5W.

(c) Anchorage C: When activated by the COTP/FMSC, Anchorage C will have a 500 yard safety or security zone, as applicable, around the point originating from approximate position 30-36N 81-13.5W.

(2) Site Selection: Given the close proximity of the ports of Jacksonville and Fernandina, their approach traffic lanes, and response times for collective emergency services, it is recommended that one set of anchorages be established to serve these two ports. Candidate anchorages were chosen for their sufficient water depth, holding ground, and proximity to de-facto approach lanes to the aforementioned ports.

(a) Other considerations.

(i) Shoreline characteristics: The NE Florida/SE Georgia coastline is primarily barrier island in nature. The proposed positioning for the set of temporary restricted anchorages is off Amelia Island. Both north and south ends of the island are State and County parks. To the north are Cumberland, Jeckyl, and St. Simon's Island. To the south are Big and Little Talbot Island. Given their size, civilian populations on the islands are very small. Cumberland and Big and Little Talbot Islands are Federal and State Parks with populations less than 50 persons combined. All of the islands are linked to the mainland by one or two bridges, except for Cumberland Island where access is only by water. With this limited access, site control to and within these areas is achievable.

(ii) Winds: Winds are primarily from the NE in the winter and fall and from the ESE/SE during the spring and summer months. The proposed anchorage location was selected with these wind patterns in mind because both Cumberland Island to the north and Little Talbot Island to the south are parks with limited populations and limited access. They would make good candidates for emergency response staging and/or monitoring sites.

(iii) Right Whales: Choosing one set of anchorage locations to service three ports reduces the potential impact to Northern Right Whale Critical Habitat and further mitigates ship-strike potential.

(iv) Artificial Reefs: The off-shore environment of NE Florida and SE Georgia are replete with artificial reefs. The proposed positioning of the anchorages successfully avoids impinging upon artificial reef areas with the closest reef being 2.5 NM north and seaward of the outermost anchorage.

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary. It is not “significant” under the regulatory policies and procedures of the Department of Homeland Security (DHS) because zone activation will be on a case by case basis only, for limited duration, at the discretion of the COTP when such action is required to protect the public, port infrastructure, and the environment.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule will not have a significant economic impact on a substantial number of small entities. This proposed rule may affect the following entities, some of which may be small entities: The owners or operators of vessels intending to transit within an activated temporary restricted anchorage. These anchorages will not have a significant economic impact on a substantial number of small entities because zone activation will be on a case by case basis only, for a limited duration, at the discretion of the COTP when such action is required to protect the public, port infrastructure, environment, and viability of the Marine Transportation System. Additionally, vessel traffic could pass safely around the temporary restricted anchorages.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we offer to assist small entities in understanding this proposed rule so that they can better evaluate its effects on them and participate in the rulemaking process. If the rule would affect your small business, organization, or governmental jurisdiction and you have questions concerning its provisions or options for compliance, please contact the person listed under FOR FURTHER INFORMATION CONTACT for assistance in understanding and participating in this rulemaking. The Coast Guard will not retaliate against small entities that question or complain about this rule or any policy or action of the Coast Guard.

Collection of Information

This proposed rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for Federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector, of $100,000,000 or more in any one year. Though this proposed rule will not result in such expenditure, we do discuss the effects of this rule elsewhere in this preamble.

Taking of Private Property

This proposed rule will not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not create an environmental risk to health or safety that may disproportionately affect children.

Indian Tribal Governments

This proposed rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.1D which guides the Coast Guard in complying with the National Environmental Policy Act of 1969 (NEPA) (42 U.S.C. 4321-4370f), and have concluded that there are no factors in this case that would limit the use of a categorical exclusion under section 2.B.2 of the Instruction. Therefore, we believe that this rule should be categorically excluded, under figure 2-1, paragraph (34)(f), of the Instruction, from further environmental documentation.

A preliminary “Environmental Analysis Check List” is available in the docket where indicated under ADDRESSES. Comments on this section will be considered before we make the final decision on whether this rule should be categorically excluded from further environmental review.

List of Subjects in 33 CFR Part 110

Anchorage grounds.

Words of Issuance and Proposed Regulatory Text

For the reasons discussed in the preamble, the Coast Guard proposes to amend 33 CFR Part 110 as follows:

PART 110—ANCHORAGE REGULATIONS

1. The authority citation for part 110 continues to read as follows:

Authority: 33 U.S.C. 471, 1221 through 1236, 2030, 2035, 2071; 33 CFR 1.05-1; Department of Homeland Security Delegation No. 0170.

2. Add § 110.184 to read as follows:

§ 110.184 Seventh Coast Guard District, Captain of the Port Zone Jacksonville, Temporary Restricted Anchorage.

(a) Applicability. This section applies to all vessels regardless of tonnage or service and all persons on such vessels subject to COTP authority within the COTP Zone Jacksonville as defined by 33 CFR 3.35-20.

(b) Temporary Restricted Anchorage Zones: The following three temporary restricted anchorage areas are established off Amelia Island, FL within the COTP Zone Jacksonville, as defined by 33 CFR 3.35-20. Each anchorage area has an accompanying 500 yard safety/security zone, as applicable, emanating from its center point described in the following section:

(1) Anchorage A: Originates approximately four nautical miles off Amelia Island, Florida in position 30-36N 81-21.8W.

(2) Anchorage B: Originates approximately seven nautical miles off Amelia Island, Florida in position 30-36N 81-18.5W.

(3) Anchorage C: Originates approximately twelve nautical miles off Amelia Island, Florida in position 30-36N 81-13.5W.

(c) Definitions. The following definition applies to this section:

(1) Temporary Restricted Anchorage refers to off-shore areas designated for the geographic separation and/or restriction of vessels or persons on such vessels posing or are suspected of posing a safety, public health, environmental, or security threat.

(2) Designated representatives means Coast Guard Patrol Commanders including Coast Guard coxswains, petty officers and other officers operating Coast Guard assets, and federal, state, and local officers designated by or assisting the Captain of the Port (COTP), Jacksonville, Florida, in the enforcement of the temporary restricted anchorage area.

(d) Anchorage Requirements. Vessels directed to a temporary anchorage shall:

(1) If equipped with an Automatic Identification System (AIS), maintain it in the “on” position.

(2) Maintain a 24-hour bridge watch by an English-speaking, licensed deck officer monitoring VHF-FM Channel 16. This individual shall perform frequent checks of the vessel's position to ensure the vessel is not dragging anchor.

(e) Safety/Security Zone requirements.

(1) Only the specified vessel may occupy the temporary restricted anchorage area. In accordance with the general regulations in § 165.23 and § 165.33 of this part, no person or vessel may anchor, moor, or transit the Regulated Area without permission of the Captain of the Port Jacksonville, Florida, or a designated representative.

(2) The Coast Guard will issue a broadcast notice to mariners to advise mariners of the temporary restricted anchorage activation.

(f) Captain of the Port Contact Information. If you have questions about the conditions under which the COTP may direct a vessel to temporary restricted anchorage, location of the temporary restricted anchorage areas, the requirements once a vessel is directed to temporary restricted anchorage, or other matters dealing with this regulation, please contact the Sector Jacksonville Command Center at (904) 564-7513.

Dated: February 12, 2008.
W.D. Lee,
Captain, U.S. Coast Guard, Commander, Coast Guard Seventh District (Acting).

[FR Doc. E8-4757 Filed 3-10-08; 8:45 am]

BILLING CODE 4910-15-P